GENERAL SERVICES ADMINISTRATION

[PBS-N01]

Notice of Availability to Distribute the Record of Decision for the Construction of a New Border Station Facility in Madawaska, Maine

AGENCY: Public Buildings Service, GSA.

ACTION: Notice of Availability.

SUMMARY: The General Services Administration (GSA) announces its intent to distribute the Record of Decision (ROD) under the National Environmental Policy Act (NEPA) of 1969, as amended, 42 USC 4321 - 4347 ( NEPA ) to assess the potential impacts of the construction of a New Border Station Facility in Madawaska, Maine (the “Proposed Action”). At the request of Customs and Border Protection (CBP), the GSA is proposing to construct a new border station facility which meets their needs, and the design requirements of the GSA.

The existing facilities are undersized and obsolete, and consequently incapable of providing the level of security now required. The Proposed Action has been defined and includes: (a) Identification of land requirements, including acquisition of adjoining land; (b) demolition of existing government structures at the border station; (c) construction of a main administration building and ancillary support buildings; and (d) consequent potential alterations to secondary roads.

Studied alternatives have identified alternative locations for the components of the border station including the main administration and ancillary support buildings, the associated roadway network and parking. A No Action alternative has also been studied and evaluates the consequences of not constructing the new border station facility.This alternative has been included to provide a basis for comparison to the action alternatives described above as required by NEPA regulations (40 CFR 1002.14(d)).

DATES: May 29, 2007.

FOR FURTHER INFORMATION CONTACT: David M. Drevinsky P.E., PMP, Regional Environmental Quality Advocate (REQA), U.S. General Services Administration, 10 Causeway Street, Room 975, Boston, MA 02222. Fax: (617) 565-5967. Phone: (617) 565-6596. E-mail: david.drevinsky@gsa.gov.

DISTRIBUTION:

GSA will distribute ten reading copies of the Record of Decision at both the Middle / High School Library located on 135 Seventh Avenue in Madawaska and the Madawaska Library located on 393 Main Street.

Glenn C. Rotondo,
Assistant Regional Administrator,Public Buildings Service, New England Region

Record of Decision

The General Services Administration has published a final environmental impact statement on the following project:

Madawaska Border Station

Madawaska, Aroostook County, Maine

Purpose and Needs

The purpose of the proposed project is to replace the undersized and functionally obsolete land port of entry at Madawaska with a new facility that meets the needs of the U.S. Customs and Border Protection (CBP), complies with the design requirements of the GSA, and provides efficient and safe inspection and processing of vehicles and people at the border crossing.

The proposed project is needed because the size and conditions of the existing building and overall site are substandard, preventing the agencies assigned to the port from adequately fulfilling their respective missions. This condition has become more noticeable in recent years due to the increase in commercial truck traffic and heightened security at the border following the terrorist attacks in 2001. The deficiencies with the existing facilities have led to extensive traffic delays, for vehicles entering the U.S., of up to 2 miles on the streets of Edmundston. The deficiencies fall into three broad categories: 1) Building deficiencies, 2) overall site deficiencies, and 3) insufficient security.

Alternatives

The following alternatives were analyzed to determine which best satisfied the purpose and needs:

The No-build Alternative

Under the no-build alternative, operation of the border station would continue at its existing location and using the existing facilities. With the exception of minor repairs and upgrades to existing equipment, no new construction or demolition would take place. No new inspection lanes or facilities would be built.

The Selected Alternative

The selected alternative, initially known as Alternative D, consists of a new facility on property that is not immediately adjacent to the existing border station. The approximately 12.9-acre site used for alternative D is about 1,600 feet west of the existing border station and owned by Fraser Papers, the MM&A Railroad, and the Madawaska Regional Health Center. Vehicles traveling from the International Bridge would make a 90-degree turn west, and proceed approximately 1,600 feet on a secure access road and bridge over the MM&A railroad tracks to the site of the new border station. The GSA would own and maintain the access road and bridge. A pedestrian-only processing facility would be located at the U.S. end of the International Bridge on the site of the current border station.

Alternative D was identified as GSA’s preferred alternative in the draft environmental impact statement, and as the selected alternative in the final environmental impact statement, because it best satisfied the project purpose and needs with the least adverse environmental impact. Three alternatives - alternatives A, B, and C -were developed that attempted to locate the new port facilities within a small geographical area immediately adjacent to the existing port site, roughly bordered by the Fraser Papers mill, the Saint John River, and Bridge and Mill Streets. These three alternatives only marginally met the project‘s purpose and need and had greater adverse environmental impacts than the selected alternative. The GSA identified Alternative D as the environmentally preferable alternative.

Alternatives Dismissed

Alternative A consisted of demolishing the existing building, building new ones on the existing site, and expanding it in an attempt to meet the required space standards and increased security requirements of the CBP. This alternative locates the entire border station between the Fraser Papers mill and the Saint John River, straddling the MM&;A railroad tracks. Alternative A had the advantages of reusing the existing site of the border station, having a compact layout requiring acquisition of less property than the other alternatives, and using property not intensely used by Fraser Papers. However, the compact layout of alternative A results in several disadvantages. The three at-grade crossings of the MM&A railroad tracks would cause train-vehicle conflicts; traffic circulation would be cumbersome and non-intuitive; trucks would have to back up into the travel lane to exit the secondary inspection area; and the VACIS unit could not be enclosed.

Alternative B consisted of demolishing the existing border station building and constructing a new border station immediately south of the MM&A railroad tracks within Bridge Street and on property owned by Fraser Papers along Bridge Street and Mill Street. The primary inspection area for all vehicles would be in Bridge Street and on property owned by Fraser Papers. Secondary inspection for trucks and personally owned vehicles (POVs) and buses would take place in Mill Street and on property to the south of Mill Street owned by Fraser Papers and used for employee parking. Thirteenth through Sixteenth Avenues and a portion of Mill Street would be closed to through traffic. Vehicle circulation through the secondary POV and bus inspection area would be challenging, because there is a dramatic rise in grade from one side of this area to the other. The exit of the secondary inspection area would intersect with a steep portion of Bridge Street, which is a safety concern. Following secondary inspection, alternative B would require trucks returning to Canada to be escorted by border station personnel back to the International Bridge, by way of public streets. This alternative would remove a considerable amount of employee parking from Fraser Papers and would require trucks to circulate through town to access the paper mill.

Alternative C consisted of demolishing the existing border station building and constructing a new border station along the MM&A railroad tracks, Bridge Street, and a portion of the Fraser Papers parking areas adjacent to Mill Street. Alternative C proposed the complete separation of inspections for trucks and POVs and buses. Primary and secondary inspection of trucks would occur on the existing border station site and additional MM&A railroad-owned property to the south and west. Primary inspection of POVs and buses would occur in Bridge Street and on property owned by Fraser Papers and used for employee parking. Secondary POV and bus inspection would occur on land owned by Fraser Papers at the corner of Bridge and Mill Streets. Thirteenth Avenue would be closed to through traffic.

Alternatives A, B, and C would only marginally satisfy the project’s purpose and needs because the building and site layout are not ideal, on-site traffic circulation is cumbersome, and security, while improved over existing conditions, would not fully meet the CBP’s requirements. Additionally, they would likely result in substantial disruption to operations of Fraser Papers and the MM&A Railroad. Due to the many problems associated with them and because another alternative exists that fully satisfies the project’s purpose and needs with less adverse impact, alternatives A, B, and C were dismissed from further consideration.

Environmental Consequences of the Project

The selected alternative would have a small impact on the natural and social environment of Madawaska. The selected alternative would impact Fraser Papers’ use of the site for truck and outdoor material storage, a railroad siding and buildings owned by the MM&A Railroad, and displace the Madawaska Regional Health Center, a medical office and outpatient care facility. The selected alternative would result in minor changes or impacts in traffic, noise, surface water runoff, and increased lighting. In each case, the changes would not be significant. The selected alternative would not adversely impact special events like the International Snowmobile Festival.

According to officials at the CBP, it is anticipated that vehicle idle time will be significantly less than 5 minutes. As a final design for the facility is developed, the GSA/CBP will evaluate traffic processing flow and wait times and, if necessary, identify appropriate idling reduction strategies. Such strategies may include development of signage at strategic locations and/or educational outreach to local industries whose drivers frequently use the border crossing.

Decision

The GSA has decided to construct the selected alternative because it best meets the purpose and needs of the project, and would have positive impacts on inbound traffic compared to the no-build alternative. The traffic circulation patterns of the selected alternative, with the installation of increased security and technology measures, would result in shorter vehicle queues and more effective and faster processing times for inbound vehicles. The separation of POVs from trucks and buses would greatly reduce queuing that occurs with the no-build alternative when more than one truck is present for processing. The number of inbound booths for processing vehicular traffic would increase from two (one POV lane and one shared lane) to four (two POV lanes, one truck lane, and one bus lane). Traffic backups into Canada would be reduced with the additional lanes combined with the increased stacking area along the proposed access road.

The GSA selected the environmentally preferable alternative. The selected and environmentally preferable alternative best met the purpose and needs for the project with the least impact to the natural and social environments, and best protects, preserves, and enhances the historic, cultural, and natural resources of the area.

The following economic, technical, and GSA mission considerations were weighed in reaching the decision: The selected alternative would adequately address the problem that the existing building, although well maintained, does not meet the GSA’s or accessibility guidelines and provides only a small percentage of the total building square foot area required to meet the needs of the CBP and other agencies. It also addresses the problem that the existing border station suffers from a variety of basic deficiencies that hamper the CBP and other agencies in providing safe and efficient processing of vehicular and pedestrian traffic including:

•Deficiencies in the main building (size, accessibility, structural, etc.)

•Deficiencies in site circulation and layout

•Deficiencies in processing of inbound commercial and non-commercial vehicles, especially in the lack of space to perform secondary inspections of large commercial vehicles

•Deficiencies in processing outbound vehicular and pedestrian traffic

•Lack of parking spaces

•Lack of designated delivery area

•Deficiencies in exterior lighting

•Deficiencies related to security measures (equipment, fencing, building setbacks, etc.)

The DEIS identified a preferred alternative. The DEIS was circulated and a public hearing was held to receive comments. No major substantive comments on the DEIS were received.

All practicable means of avoiding or minimizing environmental harm from the selected alternative were adopted, through the attached program of mitigation, monitoring, or enforcement.

[FR Doc. E7-8065 Filed 4-26-07; 8:45 am]

BILLING CODE 6820-A8-S